DEPARTMENT OF ENERGY

Federal Energy Regulatory Commission

Combined Notice of Filings #2

Take notice that the Commission received the following electric rate filings:

Docket Numbers: ER14-1594-001; ER14-1596-001.

Applicants: Lone Valley Solar Park I LLC, Lone Valley Solar Park II LLC.

Description: Notice of Non-Material Change in Status of Lone Valley Solar Park I LLC, et. al.

Filed Date: 9/29/14.

Accession Number: 20140929-5165.

Comments Due: 5 p.m. ET 10/20/14.

Docket Numbers: ER14-2345-001.

Applicants: El Paso Electric Company.

Description: Compliance filing per 35: Compliance Filing of Housekeeping Updates—OATT to be effective 9/1/2014.

Filed Date: 9/29/14.

Accession Number: 20140929-5224.

Comments Due: 5 p.m. ET 10/20/14.

Docket Numbers: ER14-2858-001.

Applicants: Origin Wind Energy, LLC.

Description: Tariff Amendment per 35.17(b): Origin Wind Energy, LLC Amendment to MBR Tariff to be effective 9/15/2014.

Filed Date: 9/29/14.

Accession Number: 20140929-5225.

Comments Due: 5 p.m. ET 10/20/14.

Docket Numbers: ER14-2957-000.

Applicants: PJM Interconnection, L.L.C.

Description: Tariff Withdrawal per 35.15: Notice of Cancellation of Original Service Agreement No. 3063; Queue No. W3-078 to be effective 4/26/2012.

Filed Date: 9/29/14.

Accession Number: 20140929-5142.

Comments Due: 5 p.m. ET 10/20/14.

Docket Numbers: ER14-2958-000.

Applicants: PJM Interconnection, L.L.C.

Description: § 205(d) rate filing per 35.13(a)(2)(iii): Original Service Agreement No. 3941; Queue Z2-056 to be effective 8/28/2014.

Filed Date: 9/29/14.

Accession Number: 20140929-5217.

Comments Due: 5 p.m. ET 10/20/14.

Docket Numbers: ER14-2959-000.

Applicants: LWP Lessee, LLC.

Description: § 205(d) rate filing per 35.13(a)(2)(iii): LWP Lessee Market-Based Rate Tariff Revision to be effective 11/29/2014.

Filed Date: 9/29/14.

Accession Number: 20140929-5222.

Comments Due: 5 p.m. ET 10/20/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 29, 2014.
Nathaniel J. Davis, Sr.,
Deputy Secretary.

[FR Doc. 2014-23760 Filed 10-3-14; 8:45 am]

BILLING CODE 6717-01-P